FEDERAL COMMUNICATIONS COMMISSION

47 CFR Parts 2 and 25

[IB Docket No. 12-376; FCC 12-161]

Earth Stations Aboard Aircraft Communicating with Fixed-Satellite Service Geostationary-Orbit Space Stations

AGENCY: Federal Communications Commission.

ACTION: Proposed rule; correction.

SUMMARY: The Federal Communications Commission is correcting the comment and reply comment dates for a proposed rule that appeared in the Federal Register of March 8, 2013. The document proposed rules for Earth Stations Aboard Aircraft.

FOR FURTHER INFORMATION CONTACT: Andrea Kelly, Satellite Division, International Bureau, FCC, (202) 418-0748, Andrea.Kelly@fcc.gov, or Howard Griboff, Policy Division, International Bureau, FCC, (202) 418-1460, Howard.Griboff@fcc.gov.

Correction

In the proposed rule of March 8, 2013, FR Doc. 2013-04429, on page 14952, column 1, correct the DATES section to read as follows:

DATES: Submit comments on or before May 22, 2013 and replies on or before June 21, 2013.”

Federal Communications Commission.
Marlene H. Dortch,
Secretary.

[FR Doc. 2013-07264 Filed 3-28-13; 8:45 am]

BILLING CODE 6712-01-P